DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135/EUROCAE Working Group 14: Environmental Conditions and Test Procedures for Airborne Equipment.

DATES: The meeting will be held March 8-10, 2005 starting at 9 a.m.

ADDRESSES: The meeting will be held at Honeywell BRGA, Bell Road, Mohave Conference Room, 5353 West Bell Rd., Glendale, AZ 85308.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135 meeting. The agenda will include:

• March 8-10:

• Opening Plenary Session (Welcome and Introductory Remarks)

• Approval of Summary from the Forty-Fourth Meeting

• RTCA Paper No. 146-04/SC135-648

• Review Results of RTCA Program Management Committee Meeting.

• Approval of DO-160E

• Discussion of Follow-on Terms of Reference

• Report from Working Group for Section 21

• Discuss Change Process for Revision F

• Review List of Change Proposals

• Deferred from Revision E

• Deferred from FRAC

• Identify Areas for Continuing Work on DO-160

• Section 17—Voltage Spike

• Section 23—Ligtining Direct Effects

• Section 24—Icing

• Section 25—ESD

• User's Guide

• Review Schedule to Release DO-160F

• Closing Plenary Session (New/Unfinished Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 8, 2005.
Natalie Ogletree,
FAA General Engineer, RTCA Advisory Committee.

[FR Doc. 05-3612 Filed 2-24-05; 8:45 am]

BILLING CODE 4910-13-M